DEPARTMENT OF TRANSPORTATION

Federal Aviation Administration

Agency Information Collection Activities: Requests for Comments; Clearance of Renewed Approval of Information Collection: Pilot Schools—FAR 141

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 14, 2018. The collection involves the submission of FAA Form 8420-8, which is used as the base document to initiate and/or confirm the status of the schools' eligibility to hold an FAA Form 8000-4, Air Agency Certificate.

DATES: Written comments should be submitted by October 4, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0009.

Title: Pilot Schools—FAR 141.

Form Numbers: 8420-8.

Type of Review: This is a renewal of an existing information collection.

Background: The Federal Register Notice with a 60-day comment period soliciting comments on the following collection of information was published on June 14, 2018 (83 FR 27820). On June 27, 2018, the FAA published the final rule Regulatory Relief, Aviation Training devices; Pilot Certification, Training, and Pilot Schools; and Other Provisions (83 FR 30232). In that rule, the FAA is amending § 141.5(d) to allow part 141 pilot schools that hold training course approvals for special curricula courses to renew their certificates based on their students' successful completion of an end-of-course test for these FAA approved courses. In that rule, the FAA further adjusts the number of pilot schools based on population changes, and to account for the change in burden associated with these new courses.

We estimate that of the 31 new applications for pilot school certificates, 25% will have special curricula courses that will need to be accounted for in the passage rate required for issuance of a certificate in § 141.5(d). Of the 291 applications for renewal of pilot school certificates, approximately 25% would include special curricula courses that must now be accounted for in the passage rate for renewal of a certificate under § 141.5(d). We estimate that it would take .1 hours to add this special curricula course information to both initial and renewal applications.

8 new applications at .1 hours each = .8 hours

73 applications at .1 hours each (adding special curr.) = 7.3 hours

171.0 hours + 8.1 hours = 180 total burden hours

The FAA is also making a burden adjustment to the number of pilot schools, increasing the population from 546 pilot schools to 581 pilot schools.

Respondents: 581 pilot schools.

Frequency: As needed for new applicants; every 24 months for renewals of existing pilot schools.

Estimated Average Burden per Response: 0.5 hours, + 0.1 hours for special curriculum course information (when applicable).

Estimated Total Annual Burden: 31,837 total burden hours. 2,787 total annual reporting burden hours, and 29,050 total annual recordkeeping burden hours.

Issued in Washington, DC, on August 23, 2018.
Barbara Hall,
FAA Information Collection Clearance Officer, IT Enterprises Business Services Division, ASP-110.

[FR Doc. 2018-19126 Filed 8-31-18; 8:45 am]

BILLING CODE 4910-13-P